DEPARTMENT OF LABOR

Occupational Safety and Health Administration

[Docket No. GE2002-1]

Request for Comments on Ergonomics for the Prevention of Musculoskeletal Disorders: Guidelines for Nursing Homes

AGENCY: Occupational Safety and Health Administration (OSHA); Department of Labor.

ACTION: Request for comments.

SUMMARY: The Department of Labor is inviting comments on its draft Ergonomics for the Prevention of Musculoskeletal Disorders: Guidelines for Nursing Homes (draft guidelines). The draft guidelines are available on OSHA's Web site and through its publications office. Interested persons may submit written comments on the draft guidelines. The Department will also hold a stakeholder meeting where the public will be invited to express its views on the draft guidelines.

DATES: Written Comments: Comments must be submitted by the following dates: Hard Copy. Your comments must be submitted (postmarked or sent) by September 30, 2002.

Facsimile and electronic transmission: Your comments must be sent by September 30, 2002.

(Please see the SUPPLEMENTARY INFORMATION below for additional information on submitting comments.)

Stakeholder meeting. A one-day stakeholder meeting will be held in the Washington, DC metropolitan area to discuss the draft guidelines. The exact location and date of the stakeholder meeting will be announced following the close of the comment period. OSHA requests that interested parties submit their intention to participate in the stakeholder meeting through express delivery, hand delivery, messenger service, fax or electronic means by September 19, 2002.

ADDRESSES:

I. Submission of Comments and Intention To Participate in Stakeholder Meeting

Regular mail, express delivery, hand-delivery, and messenger service: You must submit three copies of your comments and attachments to the OSHA Docket Office, Docket No. GE2002-1, Room N-2625, Department of Labor, 200 Constitution Avenue, NW., Washington, DC 20210, telephone (202) 693-2350. OSHA Docket Office and Department of Labor hours of operation are 8:15 a.m. to 4:45 p.m., EST. You must submit one copy of your intent to participate in the meeting by express deliver, hand deliver, or messenger service to the above address.

Facsimile: If your comments, including any attachments, are 10 pages or fewer, you may fax them to the OSHA Docket Office at (202) 693-1648. You must include the docket number of this document, Docket No. GE2002-1, in your comments. Intention to participate in the stakeholder meeting may also be faxed.

Electronic: You may submit comments (but not attachments) and your intention to participate in the stakeholder meeting through the Internet at http://ecomments.osha.gov/. (Please see the SUPPLEMENTARY INFORMATION below for additional information on submitting comments.)

II. Obtaining Copies of the Draft Guidelines

The draft guidelines for the nursing home industry are available for downloading from OSHA's Web site at www.osha.gov. A printed copy of the draft guidelines is available from the OSHA Publications Office, Room N-3101, Department of Labor, 200 Constitution Avenue, NW., Washington, DC 20210, or by telephone at (800) 321-OSHA (6742). You may fax your request for a copy of the draft guidelines to (202) 693-2498.

FOR FURTHER INFORMATION CONTACT: Steven F. Witt, OSHA Directorate of Standards and Guidance, Room N-3718, Department of Labor, 200 Constitution Avenue, NW., Washington, DC 20210, telephone (202) 693-1950.

SUPPLEMENTARY INFORMATION:

I. Submission of Comments on This Notice and Internet Access to Comments

You may submit comments in response to this document by (1) hard copy, (2) fax transmission (facsimile), or (3) electronically through the OSHA webpage. Please note that you cannot attach materials such as studies or journal articles to electronic comments. If you have additional materials, you must submit three copies of them to the OSHA Docket Office at the address above. The additional materials must clearly identify your electronic comments by name, date, subject and docket number so we can attach them to your comments. Because of security-related problems there may be a significant delay in the receipt of comments and intentions to participate in stakeholder meetings by regular mail. Please contact the OSHA Docket Office at (202) 693-2350 for information about security procedures concerning the delivery of materials by express delivery, hand delivery and messenger service.

All comments and submissions will be available for inspection and copying at the OSHA Docket Office at the above address. Comments and submissions will be posted on OSHA's Web site at www.osha.gov. OSHA cautions you about submitting personal information such as social security numbers and birth dates. Contact the OSHA Docket Office at (202) 693-2350 for information about materials not available through the OSHA webpage and for assistance in using the webpage to locate docket submissions.

II. Background

On April 5, 2002, the Department of Labor announced a four-pronged comprehensive approach for addressing muskuloskeletal disorders (MSDs). One of those prongs called for OSHA to develop industry or task-specific guidelines. OSHA's first industry-specific guidelines will address MSD hazards in the nursing home industry.

The draft guidelines contain an introduction and three main sections. The introduction provides an overview of the nature and scope of the problem of MSDs in nursing homes. It also explains the role of ergonomics in reducing the incidence of these injuries. The three main sections set out the major components of an effective ergonomics process:

• Management Practices—Includes a discussion of management commitment and employee participation, ergonomics training, occupational health management, and methods for evaluating a nursing home's ergonomics program.

• Worksite Analysis—Describes methods of identifying and evaluating ergonomic stressors.

• Control Methods—Presents 49 methods that can be used to control exposure to ergonomic stressors in nursing homes. The control methods are presented with drawings showing proper use, and with recommendations for when to use a specific control method.

OSHA encourages interested parties to comment on all aspects of the draft guidelines.

III. Stakeholder Meeting

Following the close of the comment period, OSHA will be holding a stakeholder meeting in the Washington, DC metropolitan area. In a future Federal Register notice, the Department will announce the date and precise location of the stakeholder meeting.

This notice was prepared under the direction of John L. Henshaw, Assistant Secretary for Occupational Safety and Health. It is issued under sections 4 and 8 of the Occupational Safety and Health Act of 1970 (29 U.S.C. 653, 657).

Issued at Washington, DC, this 27th day of August, 2002.
John L. Henshaw,
Assistant Secretary of Labor.

[FR Doc. 02-22285 Filed 8-29-02; 8:45 am]

BILLING CODE 4510-26-M